DEPARTMENT OF LABOR

Employment and Training Administration

[TA-W-63,011]

B. Walter and Company, Wabash, IN; Notice of Revised Determination on Reconsideration

By application dated May 26, 2008, a petitioner requested administrative reconsideration of the Department's negative determination regarding eligibility to apply for Trade Adjustment Assistance (TAA), applicable to workers and former workers of the subject firm.

The initial investigation initiated on March 17, 2008, resulted in a negative determination issued on May 15, 2008, was based on the finding that imports of metal stampings did not contribute importantly to worker separations at the subject firm and no shift of production to a foreign source occurred. The denial notice was published in the Federal Register on May 29, 2008 (73 FR 30978).

In the request for reconsideration, the petitioner provided new information regarding a customer of the subject firm, which was recently certified eligible for TAA.

Upon further investigation it was determined that B. Walter and Company, Wabash, Indiana supplied metal stampings that were used in the production of wooden furniture, and a loss of business with domestic manufacturers (whose workers were certified eligible to apply for adjustment assistance) contributed importantly to the workers separation or threat of separation. The parts supplied were related to the articles that were the basis of certification.

In accordance with Section 246 of the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of Section 246 of the Trade Act, as amended, must be met. The Department has determined in this case that the requirements of Section 246 have been met.

A significant number of workers at the firm are age 50 or over and possess skills that are not easily transferable. Competitive conditions within the industry are adverse.

Conclusion

After careful review of the additional facts obtained on reconsideration, I determine that workers of B. Walter and Company, Wabash, Indiana qualify as adversely affected secondary workers under Section 222 of the Trade Act of 1974, as amended. In accordance with the provisions of the Act, I make the following certification:

All workers of B. Walter and Company, Wabash, Indiana, who became totally or partially separated from employment on or after March 10, 2007, through two years from the date of this certification, are eligible to apply for adjustment assistance under Section 223 of the Trade Act of 1974, and are also eligible to apply for alternative trade adjustment assistance under Section 246 of the Trade Act of 1974.

Signed in Washington, DC, this 24th day of June 2008.
Elliott S. Kushner,
Certifying Officer, Division of Trade Adjustment Assistance.

[FR Doc. E8-15340 Filed 7-3-08; 8:45 am]

BILLING CODE 4510-FN-P